DEPARTMENT OF ENERGY

Federal Energy Regulatory Commission

Combined Notice of Filings #1

Take notice that the Commission received the following electric rate filings:

Docket Numbers: ER11-2154-011.

Applicants: Twin Eagle Resource Management, LLC.

Description: Notice of Change in Status of Twin Eagle Resource Management, LLC.

Filed Date: 3/30/20.

Accession Number: 20200330-5290.

Comments Due: 5 p.m. ET 4/20/20.

Docket Numbers: ER11-2154-012.

Applicants: Twin Eagle Resource Management, LLC.

Description: Notice of Change in Status of Twin Eagle Resource Management, LLC.

Filed Date: 4/2/20.

Accession Number: 20200402-5068.

Comments Due: 5 p.m. ET 4/23/20.

Docket Numbers: ER19-458-001.

Applicants: EDF Trading North America, LLC, AES Alamitos, LLC, AES Huntington Beach, LLC, AES Redondo Beach, LLC.

Description: Pre-Arranged/Pre-Agreed (Stipulation and Offer of Settlement) Filing of the Settling Parties.

Filed Date: 4/1/20.

Accession Number: 20200401-5434.

Comments Due: 5 p.m. ET 4/22/20.

Docket Numbers: ER19-1216-001.

Applicants: Northwest Ohio Wind, LLC.

Description: Report Filing: Refund Report (ER19-1216-) to be effective N/A.

Filed Date: 4/2/20.

Accession Number: 20200402-5125.

Comments Due: 5 p.m. ET 4/23/20.

Docket Numbers: ER20-783-001.

Applicants: Rosewater Wind Farm LLC.

Description: Compliance filing: Amendment to Compliance Filing and Revised Market-Based Rate Tariff to be effective 12/16/2019.

Filed Date: 4/2/20.

Accession Number: 20200402-5063.

Comments Due: 5 p.m. ET 4/23/20.

Docket Numbers: ER20-1417-000.

Applicants: Roundhouse Renewable Energy, LLC.

Description: Amendment to March 27, 2020 Roundhouse Renewable Energy, LLC tariff filing.

Filed Date: 4/1/20.

Accession Number: 20200401-5418.

Comments Due: 5 p.m. ET 4/22/20.

Docket Numbers: ER20-1474-000.

Applicants: Midcontinent Independent System Operator, Inc.

Description: § 205(d) Rate Filing: 2020-04-01_Revisions to Attachment FF regarding FTP Language to be effective 6/1/2020.

Filed Date: 4/1/20.

Accession Number: 20200401-5294.

Comments Due: 5 p.m. ET 4/22/20.

Docket Numbers: ER20-1475-000.

Applicants: PJM Interconnection, L.L.C.

Description: Tariff Cancellation: Notice of Cancellation of Service Agreement No. 690, No. D07 RE: Deactivation to be effective 6/1/2020.

Filed Date: 4/1/20.

Accession Number: 20200401-5308.

Comments Due: 5 p.m. ET 4/22/20.

Docket Numbers: ER20-1476-000.

Applicants: Avista Corporation.

Description: § 205(d) Rate Filing: Avista Corp RS T0447 Communications Lease Agreement to be effective 6/1/2020.

Filed Date: 4/1/20.

Accession Number: 20200401-5318.

Comments Due: 5 p.m. ET 4/22/20.

Docket Numbers: ER20-1477-000.

Applicants: 3PR Trading, Inc.

Description: Baseline eTariff Filing: baseline new to be effective 4/2/2020.

Filed Date: 4/2/20.

Accession Number: 20200402-5002.

Comments Due: 5 p.m. ET 4/23/20.

Docket Numbers: ER20-1478-000.

Applicants: Southwest Power Pool, Inc.

Description: § 205(d) Rate Filing: 3647 AECC Addendum 2 to Attachment AO to be effective 4/1/2020.

Filed Date: 4/2/20.

Accession Number: 20200402-5005.

Comments Due: 5 p.m. ET 4/23/20.

Docket Numbers: ER20-1479-000.

Applicants: Public Service Company of New Mexico.

Description: Formula Rate Post-employment Benefits Other than Pensions filing of Public Service Company of New Mexico.

Filed Date: 4/1/20.

Accession Number: 20200401-5419.

Comments Due: 5 p.m. ET 4/22/20.

Docket Numbers: ER20-1480-000.

Applicants: Vermont Electric Power Company, Inc.

Description: Order No. 864 Compliance Filing of Vermont Electric Power Company, Inc.

Filed Date: 4/1/20.

Accession Number: 20200401-5430.

Comments Due: 5 p.m. ET 4/22/20.

Docket Numbers: ER20-1481-000.

Applicants: AES Ohio Generation, LLC.

Description: Tariff Cancellation: AES Ohio Reactive Power Tariff Cancellation to be effective 6/1/2020.

Filed Date: 4/2/20.

Accession Number: 20200402-5034.

Comments Due: 5 p.m. ET 4/23/20.

Docket Numbers: ER20-1482-000.

Applicants: Oncor Electric Delivery Company LLC.

Description: Tariff Cancellation: Notice of Cancellation to be effective 4/22/2020.

Filed Date: 4/2/20.

Accession Number: 20200402-5037.

Comments Due: 5 p.m. ET 4/23/20.

Docket Numbers: ER20-1483-000.

Applicants: Avista Corporation.

Description: § 205(d) Rate Filing: Avista Corp RS T1162 Interconnection and Operating Agreement to be effective 4/3/2020.

Filed Date: 4/2/20.

Accession Number: 20200402-5067.

Comments Due: 5 p.m. ET 4/23/20.

Docket Numbers: ER20-1485-000.

Applicants: Southern California Edison Company.

Description: § 205(d) Rate Filing: Amended GIA and Service Agmt Painted Hills & Cancel SA Nos. 877, 878, 879, 880 to be effective 6/2/2020.

Filed Date: 4/2/20.

Accession Number: 20200402-5070.

Comments Due: 5 p.m. ET 4/23/20.

Docket Numbers: ER20-1486-000.

Applicants: Southwest Power Pool, Inc.

Description: § 205(d) Rate Filing: 3621SO The Empire District Electric Company GIA to be effective 3/19/2020.

Filed Date: 4/2/20.

Accession Number: 20200402-5071.

Comments Due: 5 p.m. ET 4/23/20.

Docket Numbers: ER20-1487-000.

Applicants: Frontier Windpower II, LLC.

Description: Baseline eTariff Filing: Initial Application for Market-Based Rate Authority to be effective 6/2/2020.

Filed Date: 4/2/20.

Accession Number: 20200402-5074.

Comments Due: 5 p.m. ET 4/23/20.

Docket Numbers: ER20-1488-000.

Applicants: PJM Interconnection, L.L.C.

Description: § 205(d) Rate Filing: Second Revised ISA, SA No. 5461; Queue No. Y3-092/AB2-019 to be effective 3/3/2020.

Filed Date: 4/2/20.

Accession Number: 20200402-5101.

Comments Due: 5 p.m. ET 4/23/20.

Docket Numbers: ER20-1489-000.

Applicants: Puget Sound Energy, Inc.

Description: § 205(d) Rate Filing: PBOP—Revisions to Formula Rate Attachment H-1 to be effective 6/1/2020.

Filed Date: 4/2/20.

Accession Number: 20200402-5109.

Comments Due: 5 p.m. ET 4/23/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 2, 2020.
Nathaniel J. Davis, Sr.,
Deputy Secretary.

[FR Doc. 2020-07360 Filed 4-7-20; 8:45 am]

BILLING CODE 6717-01-P